DEPARTMENT OF THE INTERIOR

Fish and Wildlife Service

[Docket No. FWS-R6-ES-2021-0096; FF06E11000-212-FXES11130600000]

Incidental Take Permit Application; Habitat Conservation Plan Amendment for Montana Department of Natural Resources Lazy-Swift Addition and Wolf Creek Land Exchange; Flathead and Lincoln Counties, Montana

AGENCY: Fish and Wildlife Service, Interior.

ACTION: Notice of availability.

SUMMARY: We, the U.S. Fish and Wildlife Service (Service), announce the availability of documents related to an application to amend an existing incidental take permit (ITP) under the Endangered Species Act. Montana Department of Natural Resources and Conservation has applied for an amendment to their existing ITP, which, if granted, would add lands for coverage under their Forest Management Habitat Conservation Plan (HCP), and which would effectively extend the permit take coverage to these lands for three federally listed species, the grizzly bear, Canada lynx, and bull trout, and two unlisted species, the westslope cutthroat trout and Columbia redband trout. We invite comments from the public and Federal, Tribal, State, and local governments.

DATES: We will accept comments received or postmarked on or before January 7, 2022. Comments submitted online at Regulations.gov (see ADDRESSES) must be received by 11:59 p.m. Eastern Time on the closing date.

ADDRESSES:

Obtaining Documents: The documents this notice announces, as well as associated background documents and any comments and other materials that we receive, will be available for public inspection online in Docket No. FWS-R6-ES-2021-0096 at http://www.regulations.gov.

Submitting Comments: You may submit comments by one of the following methods:

• Online: http://www.regulations.gov. Follow the instructions for submitting comments on Docket No. FWS-R6-ES-2021-0096.

• U.S. Mail: Public Comments Processing, Attn: Docket No. FWS-R6-ES-2021-0096; U.S. Fish and Wildlife Service Headquarters, MS: PERMA; 5275 Leesburg Pike; Falls Church, VA 22041-3803.

We request that you send comments by only the methods described above. We will post all comments on http://www.regulations.gov. This generally means that we will post any personal information you provide us (see the Public Comments section below for more information).

FOR FURTHER INFORMATION CONTACT: Ben Conard, by phone at 406-758-6882, by email at Ben_Conard@fws.gov, or via the Federal Relay Service at 800-877-8339.

SUPPLEMENTARY INFORMATION: We, the U.S. Fish and Wildlife Service (Service), have received an application from the Montana Department of Natural Resources and Conservation (DNRC) to amend their incidental take permit (ITP) under the Endangered Species Act of 1973, as amended (ESA; 16 U.S.C. 1531 et seq.). The amendment would add lands for coverage under the existing forest management habitat conservation plan (HCP) and extend the permit take coverage to these lands for species covered by the HCP: Three federally listed species, the grizzly bear, Canada lynx, and bull trout, and two unlisted species, the westslope cutthroat trout and Columbia redband trout. Take authorization of an unlisted species only becomes effective upon a final listing determination.

The new document available for review and comment is the applicant's requested amendment to the habitat conservation plan (HCP), which is part of their ITP amendment application. The previously finalized HCP and the Service's 2018 final supplemental environmental impact statement (SEIS) and record of decision (ROD) included analysis of potential permit amendments to add lands to the HCP under the National Environmental Policy Act (NEPA), are also available online for reference (see ADDRESSES, above). We have reviewed the prior NEPA analysis and determined that the 2018 final SEIS and associated ROD include the appropriate analysis necessary for this ITP amendment, and that no further NEPA documentation is needed.

Applicant's Proposed Amendment

The additional lands include 14,642 acres of acquired forested land now part of the Stillwater State Forest near Olney, Montana, and in the Wolf Creek watershed on DNRC Libby Unit. A 2018 final SEIS considered the environmental effects of amending the HCP and permit as a result of adding acquired lands within the HCP planning area, and addressed public comments received on the 2017 draft SEIS. The DNRC proposes to add 14,642 acres into the HCP planning area for ESA incidental take coverage for DNRC's forest management activities on these lands. Prior to DNRC acquisition, private entities conducted forest management activities on the 14,642 acres of forested lands.

In general, all conservation commitments would be applied specifically as stated in the HCP (as amended in 2018), and all lands that would be added to the HCP fall within the bounds of the original HCP planning area. Some modifications are necessary to accommodate the Lazy-Swift acquisition lands and existing conservation constraints associated with established conservation easements on the properties (e.g., create a new Lynx Management Area, incorporate associated road systems into the existing transportation plan, and accommodate some areas permanently deferred from commercial logging). However, these modifications do not result in a substantial change from conservation commitments made in the HCP and analyzed in the 2018 FEIS.

Background

In 2012, we issued an ITP to DNRC for take of the grizzly bear, Canada lynx, bull trout, westslope cutthroat trout, and Columbia redband trout incidental to forest management activities covered in their HCP (75 FR 57059). The grizzly bear, Canada lynx, and bull trout are listed as threatened under the ESA, while the westslope and Columbia redband trout are not federally listed species. The original permit covered approximately 548,500 acres of forested State trust lands in western Montana. The HCP addressed the process and contingencies for DNRC to transfer, exchange, or add lands for their forest management activities in the future. Thus, the Service had considered in the 2011 final EIS the potential effects of amending the HCP and permit to cover such actions, but was not able to analyze effects from adding specific lands that had not yet been identified.

The 2018 final SEIS (83 FR 24335) analyzed potential effects to the human and natural environment from the preferred alternative to amend the permit to cover take from DNRC's forest management activities on an additional 81,416 acres and the potential future addition of lands within the HCP planning area, including the current amendment request for the addition of 14,642 acres.

Public Comments

If you submit information via http://www.regulations.gov, your entire submission—including any personal identifying information—will be posted on the website. If your submission is made via a hardcopy that includes personal identifying information, you may request at the top of your document that we withhold this information from public review. However, we cannot guarantee that we will be able to do so. We will post all hardcopy submissions on http://www.regulations.gov.

All submissions from organizations or businesses and from individuals identifying themselves as representatives or officials of organizations or businesses will be made available for public disclosure in their entirety.

Authority

We provide this notice under section 10(c) of the ESA (16 U.S.C. 1531 et seq.) and its implementing regulations for incidental take permits (50 CFR 17.32) and NEPA (42 U.S.C. 4371 et seq.) and its implementing regulations (40 CFR 1506.6; 43 CFR part 46).

Stephen Small,
Assistant Regional Director, Ecological Services, Mountain-Prairie Region, U.S. Fish and Wildlife Service.

[FR Doc. 2021-26564 Filed 12-7-21; 8:45 am]

BILLING CODE 4333-15-P